DEPARTMENT OF HOMELAND SECURITY

Coast Guard

33 CFR Part 117

[CGD07-06-012]

RIN 1625-AA09

Announcement of Public Meeting Regarding the Proposed Drawbridge Schedule Change for the Anna Maria and Cortez Drawbridges, Anna Maria, FL

AGENCY: Coast Guard, DHS.

ACTION: Notice of public meeting.

SUMMARY: The Coast Guard will hold a public meeting at the Holmes Beach City Hall, 5801 Marina Drive, Holmes Beach, Florida 34217 to allow interested parties the opportunity to provide comments regarding whether the Anna Maria and Cortez Drawbridge schedules should be changed.

DATES: The meeting will be held on March 29, 2006 from 5 p.m. to 7 p.m.

ADDRESSES: The meeting will be held at Holmes Beach City Hall, 5801 Marina Drive, Holmes Beach, Florida 34217. Written comments may be submitted to Commander (dpb), Seventh Coast Guard District, 909 S.E. 1st Avenue, Room 432, Miami, Florida 33131-3050. Commander (dpb) maintains the public docket, and comments and material received from the public will become part of docket [CGD07-05-097] and will be available for inspection or copying at the above address between 8 a.m. and 4:30 p.m., Monday through Friday, except Federal holidays.

FOR FURTHER INFORMATION CONTACT: Mr. Michael Lieberum, Seventh Coast Guard District, Bridge Branch, telephone number 305-415-6743.

SUPPLEMENTARY INFORMATION: On August 16, 2005, the Coast Guard published a Notice of Proposed Rulemaking (NPRM) in the Federal Register that proposed to change the operating regulations governing the Anna Maria (SR 64) and Cortez (SR 684) drawbridges. [70 FR 48091] The Coast Guard has received several comments from the public stating that the proposed regulation change should not be approved until a public meeting is held. In response to those comments, a public meeting will be held so that all interested parties will have an opportunity to comment as to whether the current drawbridge regulations should be changed.

Written statements and exhibits may be submitted in place of or in addition to oral statements and will be made part of the meeting record. Such written statements and exhibits may be delivered at the meeting or mailed to Chief, Bridge Operations Section, Seventh Coast Guard District, Bridge Branch, 909 SE. 1st Avenue, Room 432, Miami, Florida 33131-3050.

Dated: January 20, 2006.
D.B. Peterman,
RADM, U.S. Coast Guard, Commander, Seventh Coast Guard District.

[FR Doc. E6-1149 Filed 1-30-06; 8:45 am]

BILLING CODE 4910-15-P